DEPARTMENT OF COMMERCE

International Trade Administration

[A-475-820]

Notice of Initiation and Preliminary Results of Changed Circumstances Antidumping Duty Review: Stainless Steel Wire Rod from Italy

AGENCY: Import Administration, International Trade Administration, Department of Commerce.

SUMMARY: The Department of Commerce (the Department) has received information sufficient to warrant initiation of a changed circumstances review of the antidumping duty order on stainless steel wire rod (SSWR) from Italy. Based on this information, we preliminarily determine that: 1) Acciaierie Valbruna S.p.A. (Valbruna S.p.A.) is the successor-in-interest to Acciaierie Valbruna S.r.l. (Valbruna S.r.l.) and its subsidiary Acciaierie Bolzano S.p.A. (Bolzano S.p.A.), a respondent in the less-than-fair-value (LTFV) investigation; and 2) merchandise from Acciaierie Valbruna S.p.A. should be excluded from the antidumping duty order. Interested parties are invited to comment on these preliminary results.

EFFECTIVE DATE: March 20, 2006.

FOR FURTHER INFORMATION CONTACT: Irina Itkin or Alice Gibbons, AD/CVD Operations, Office 2, Import Administration, International Trade Administration, U.S. Department of Commerce, 14th Street and Constitution Avenue, NW, Washington, DC 20230; telephone (202) 482-0656 and (202) 482-0498, respectively.

SUPPLEMENTARY INFORMATION:

Background

On September 15, 1998, the Department published in the Federal Register (63 FR 49327) the antidumping duty order on SSWR from Italy. Valbruna S.r.l. and its affiliate Bolzano S.p.A. were excluded from the order because their dumping margin was de minimis. On January 26, 2006, Valbruna S.p.A. submitted a written request that the Department conduct a changed circumstances review in order to clarify for U.S. Customs and Border Protection (CBP) that Valbruna S.p.A. is the successor-in-interest to Valbruna S.r.l./Bolzano S.p.A. and that subject merchandise produced by this entity should not be subject to antidumping duties. Valbruna S.p.A. requested that the result of the Department's changed circumstances review be retroactive to December 16, 1998, the effective date of Valbruna S.r.l.'s name and corporate change to Valbruna S.p.A. On January 30, 2006, the Department requested that Valbruna S.p.A. supplement this request for a changed circumstances review by addressing the four factors normally examined by the Department in successor-in-interest determinations: changes in (1) Management; (2) production facilities; (3) supplier relationships; and (4) customer base. On February 8, 2006, Valbruna submitted this information to the Department. Further, on March 7, 2006, Valbruna S.p.A. submitted information to address additional questions raised by the Department on March 3, 2006.

Scope of Order

For purposes of this order, SSWR comprises products that are hot-rolled or hot-rolled annealed and/or pickled and/or descaled rounds, squares, octagons, hexagons or other shapes, in coils, that may also be coated with a lubricant containing copper, lime or oxalate. SSWR is made of alloy steels containing, by weight, 1.2 percent or less of carbon and 10.5 percent or more of chromium, with or without other elements. These products are manufactured only by hot-rolling or hot-rolling, annealing, and/or pickling and/or descaling, are normally sold in coiled form, and are of solid cross-section. The majority of SSWR sold in the United States is round in cross-sectional shape, annealed and pickled, and later cold-finished into stainless steel wire or small-diameter bar.

The most common size for such products is 5.5 millimeters or 0.217 inches in diameter, which represents the smallest size that normally is produced on a rolling mill and is the size that most wire-drawing machines are set up to draw. The range of SSWR sizes normally sold in the United States is between 0.20 inches and 1.312 inches diameter. Two stainless steel grades, SF20T and K-M35FL, are excluded from the scope of the order. The chemical makeup for the excluded grades is as follows:

SF20T
Carbon | 0.05 max | Chromium | 19.00/21.00
Manganese | 2.00 max | Molybdenum | 1.50/2.50
Phosphorous | 0.05 max | Lead | added (0.10/0.30)
Sulfur | 0.15 max | Tellurium | added (0.03 min)
Silicon | 1.00 max

K-M35FL
Carbon | 0.015 max | Nickel | 0.30 max
Silicon | 0.70/1.00 | Chromium | 12.50/14.00
Manganese | 0.40 max | Lead | 0.10/0.30
Phosphorous | 0.04 max | Aluminum | 0.20/0.35
Sulfur | 0.03 max

The products subject to this order are currently classifiable under subheadings 7221.00.0005, 7221.00.0015, 7221.00.0030, 7221.00.0045, and 7221.00.0075 of the Harmonized Tariff Schedule of the United States (HTSUS). Although the HTSUS subheadings are provided for convenience and customs purposes, the written description of the merchandise is dispositive.

Initiation and Preliminary Results of Review

In its January 26, 2006, February 8, 2006, and March 7, 2006, submissions to the Department, Valbruna S.p.A. provided information to the Department to demonstrate that it is the successor-in-interest to Valbruna S.r.l./Bolzano S.p.A. and that subject merchandise produced by it should not be subject to antidumping duties given that Valbruna S.r.l./Bolzano S.p.A. were excluded from the antidumping duty order. See 63 FR 49327 (Sept. 15, 1998).

Thus, in accordance with section 751(b) of the Tariff Act of 1930, as amended (the Act) and 19 CFR 351.216 and 351.221(a), the Department is initiating a changed circumstances review to determine whether Valbruna S.p.A. is the successor-in-interest to Valbruna S.r.l./Bolzano S.p.A. and thus entitled to exclusion from the antidumping duty order on SSWR from Italy.

Valbruna S.p.A. has presented evidence to establish a prima facie case that neither its change in corporate form and name from Valbruna S.r.l. to Valbruna S.p.A. nor its subsequent merger with its wholly owned subsidiary, Bolzano S.p.A., affected the company's operations (i.e., management, production facilities, supplier relationships, or customer relationships) so that they are materially dissimilar to those of its predecessor. As a consequence, we find that it is appropriate to issue the preliminary results of our review in combination with the notice of initiation of the changed circumstances review in accordance with 19 CFR 351.221(c)(3)(ii). Because the evidence indicates that Valbruna S.p.A. has the same corporate structure and operations as Valbruna S.r.l./Bolzano S.p.A., we preliminarily determine that merchandise from Valbruna S.p.A. should be excluded from the antidumping duty order. Thus, if these preliminary results are adopted in our final results of this changed circumstances review, we will instruct CBP to liquidate, without regard to antidumping duties, all entries entered, or withdrawn from warehouse, for consumption on or after December 16, 1998, the date of Valbruna S.r.l.'s name change to Valbruna S.p.A. This action is in accordance with the Department's practice of applying the results of changed circumstances determinations retroactively where the company in question was never subject to the order. See Certain Hot-Rolled Lead and Bismuth Carbon Steel Products from the United Kingdom: Final Results of Changed-Circumstances Antidumping and Countervailing Duty Administrative Review, 64 FR 66880, 66881 (Nov. 30, 1999). For further discussion of this issue, see the memorandum from Irene Darzenta Tzafolias to Stephen J. Claeys, entitled “Successor-In-Interest Determination for Acciaierie Valbruna S.r.l. in the Changed Circumstances Review of Stainless Steel Wire Rod from Italy,” dated concurrently with this notice.

Interested parties are invited to comment on these preliminary results. Any written comments may be submitted no later than 14 days after date of publication of this notice. Rebuttal briefs, limited to arguments raised in case briefs, are due five days after the case brief deadline. Case briefs and rebuttal briefs must be served on interested parties in accordance with 19 CFR 351.209. The Department will publish the final results of the changed circumstances review including the results of its analysis of any issues raised in any such comments.

This initiation of review, preliminary results of review, and notice are in accordance with sections 751(b) and 777(i)(1) of the Act.

Dated: March 13, 2006.
David M. Spooner,
Assistant Secretary for Import Administration.

[FR Doc. E6-3990 Filed 3-17-06; 8:45 am]

BILLING CODE 3510-DS-S